DEPARTMENT OF HEALTH AND HUMAN SERVICES

National Institutes of Health

Center for Scientific Review; Amended Notice of Meeting

Notice is hereby given of a change in the meeting of the Center for Scientific Review Special Emphasis Panel, April 2, 2001, 3:30 p.m. to April 2, 2001, 4:30 p.m., NIH, Rockledge 2, Bethesda, MD 20892 which was published in the Federal Register on March 23, 2001, 66 FR 16275-16276.

The meeting times have been changed to 4:30 p.m. to 5:30 p.m. The meeting date and location remain the same. The meeting is closed to the public.

Dated: March 27, 2001.
LaVerne Y. Stringfield,
Director, Office of Federal Advisory Committee Policy.

[FR Doc. 01-8368 Filed 4-4-01; 8:45 am]

BILLING CODE 4410-01-M